U.S.-CHINA ECONOMIC AND SECURITY REVIEW COMMISSION

Notice of Open Public Hearing

AGENCY: U.S.-China Economic and Security Review Commission.

ACTION: Notice of open public hearing—April 25, 2014, Washington, DC.

SUMMARY: Notice is hereby given of the following hearing of the U.S.-China Economic and Security Review Commission.

Name: Dennis C. Shea, Chairman of the U.S.-China Economic and Security Review Commission. The Commission is mandated by Congress to investigate, assess, and report to Congress annually on “the national security implications of the economic relationship between the United States and the People's Republic of China.” Pursuant to this mandate, the Commission will hold a public hearing in Washington, DC on April 25, 2014, “U.S.-China Clean Energy Cooperation: Status, Challenges, and Opportunities.”

Background: This is the fifth public hearing the Commission will hold during its 2014 report cycle to collect input from academic, industry, and government experts on national security implications of the U.S. bilateral trade and economic relationship with China. This hearing will examine, among other things, China's energy needs and clean energy policies, the recent developments in the U.S.-China clean energy cooperation, and the implications of such cooperation for the United States. The hearing will be co-chaired by Commissioners Robin Cleveland and Carte Goodwin. Any interested party may file a written statement by April 25, 2014, by mailing to the contact below. A portion of each panel will include a question and answer period between the Commissioners and the witnesses.

Location, Date and Time: Room 608, Dirksen Senate Office Building, 1st Street Southeast, Washington, DC. Thursday, April 25, 2014, 9:00 a.m.-1:15 p.m. Eastern Time. A detailed agenda for the hearing is on Commission's Web site at www.uscc.gov. Also, please check our Web site for possible changes to the hearing schedule. Reservations are not required to attend the hearing.

FOR FURTHER INFORMATION CONTACT: Any member of the public seeking further information concerning the hearing should contact Reed Eckhold, 444 North Capitol Street NW., Suite 602, Washington, DC 20001; phone: 202-624-1496, or via email at reckhold@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: April 10, 2014.
Michael Danis,
Executive Director, U.S.-China Economic and Security Review Commission.

[FR Doc. 2014-08587 Filed 4-15-14; 8:45 am]

BILLING CODE 1137-00-P